DEPARTMENT OF ENERGY

Federal Energy Regulatory Commission

[Docket No. RP00-533-008]

Algonquin Gas Transmission Company; Notice of Supplemental Compliance Filing

April 10, 2003.

Take notice that on April 7, 2003, Algonquin Gas Transmission Company (Algonquin) tendered for filing as part of its FERC Gas Tariff, Fourth Revised Volume No. 1, Second Sub First Revised Sheet No. 634, effective March 4, 2003.

Algonquin states that the purpose of this filing is to supplement its March 14, 2003, tariff filing submitted in compliance with the Order on Compliance Filing issued by the Commission in Docket Nos. RP00-533-004 and RP03-193-000 on March 4, 2003 (March 4 Order) [102 FERC ] 61,264].

Algonquin states that copies of its filing have been mailed to all affected customers of Algonquin and interested state commissions, as well as to all parties listed on the Official Service List compiled by the Secretary of the Commission in Docket

No. RP00-533.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: April 21, 2003.

Magalie R. Salas,
Secretary.

[FR Doc. 03-9393 Filed 4-15-03; 8:45 am]

BILLING CODE 6717-01-P